DEPARTMENT OF ENERGY

Federal Energy Regulatory Commission

Combined Notice of Filings #1

Take notice that the Commission received the following electric corporate filings:

Docket Numbers: EC20-90-000.

Applicants: Just Energy Group Inc., Just Energy (U.S.) Corp., Hudson Energy Services, LLC, Just Energy Illinois Corp., Just Energy New York Corp., Just Energy Pennsylvania Corp., Just Energy Texas I Corp., Just Energy Solutions Inc.

Description: Joint Application for Authorization Under Section 203 of the Federal Power Act, et al. of Just Energy Group Inc., et al.

Filed Date: 8/14/20.

Accession Number: 20200814-5207.

Comments Due: 5 p.m. ET 9/4/20.

Docket Numbers: EC20-91-000.

Applicants: American Electric Power Service Corporation.

Description: Application for Authorization Under Section 203 of the Federal Power Act, et al. of American Electric Power Service Corporation.

Filed Date: 8/14/20.

Accession Number: 20200814-5219.

Comments Due: 5 p.m. ET 9/4/20.

Take notice that the Commission received the following exempt wholesale generator filings:

Docket Numbers: EG20-232-000.

Applicants: Crossing Trails Wind Power Project LLC.

Description: Notice of Self-Certification of Exempt Wholesale Generator Status of Crossing Trails Wind Power Project LLC.

Filed Date: 8/17/20.

Accession Number: 20200817-5135.

Comments Due: 5 p.m. ET 9/8/20.

Docket Numbers: EG20-233-000.

Applicants: Headwaters Wind Farm II LLC.

Description: Notice of Self-Certification of Exempt Wholesale Generator Status of Headwaters Wind Farm II LLC.

Filed Date: 8/17/20.

Accession Number: 20200817-5154.

Comments Due: 5 p.m. ET 9/8/20.

Docket Numbers: EG20-234-000.

Applicants: Jordan Creek Wind Farm LLC.

Description: Notice of Self-Certification of Exempt Wholesale Generator Status of Jordan Creek Wind Farm LLC.

Filed Date: 8/17/20.

Accession Number: 20200817-5164.

Comments Due: 5 p.m. ET 9/8/20.

Take notice that the Commission received the following electric rate filings:

Docket Numbers: ER18-1247-002.

Applicants: Entergy Arkansas, Inc.

Description: Compliance filing: EAL Offer of Settlement Compliance (ER18-1247) to be effective 7/1/2018.

Filed Date: 8/17/20.

Accession Number: 20200817-5144.

Comments Due: 5 p.m. ET 9/8/20.

Docket Numbers: ER19-2821-000; TS19-4-000.

Applicants: Upper Missouri G. & T. Electric Cooperative, Inc.

Description: Second Supplement to September 16, 2019 Request for Waiver of Open-Access Requirements of Order Nos. 888, et al. of Upper Missouri G. & T. Electric Cooperative, Inc.

Filed Date: 8/14/20.

Accession Number: 20200814-5198.

Comments Due: 5 p.m. ET 9/4/20.

Docket Numbers: ER20-2101-001.

Applicants: Fern Solar LLC.

Description: Second Amendment to June 18, 2020 Fern Solar LLC tariff filing (Amended Asset Appendix).

Filed Date: 8/14/20.

Accession Number: 20200814-5216.

Comments Due: 5 p.m. ET 8/24/20.

Docket Numbers: ER20-2681-000.

Applicants: PJM Interconnection, L.L.C.

Description: § 205(d) Rate Filing: Amendment to WMPA, Service Agreement No. 5586; Queue No. AE1-175 to be effective 1/15/2020.

Filed Date: 8/14/20.

Accession Number: 20200814-5211.

Comments Due: 5 p.m. ET 9/4/20.

Docket Numbers: ER20-2682-000.

Applicants: Tri-State Generation and Transmission Association, Inc.

Description: § 205(d) Rate Filing: Amendment to Tri-State Rate Schedule No. 169 to be effective 2/26/2020.

Filed Date: 8/17/20.

Accession Number: 20200817-5043.

Comments Due: 5 p.m. ET 9/8/20.

Docket Numbers: ER20-2685-000.

Applicants: PJM Interconnection, L.L.C.

Description: § 205(d) Rate Filing: Original WMPA, Service Agreement No. 5741; Queue No. AF2-430 to be effective 7/20/2020.

Filed Date: 8/17/20.

Accession Number: 20200817-5183.

Comments Due: 5 p.m. ET 9/8/20.

Docket Numbers: ER20-2686-000.

Applicants: PJM Interconnection, L.L.C.

Description: Compliance filing: Docket No. EL19-91 OA Compliance to be effective 12/31/9998.

Filed Date: 8/17/20.

Accession Number: 20200817-5173.

Comments Due: 5 p.m. ET 9/8/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2020.
Nathaniel J. Davis, Sr.,
Deputy Secretary.

[FR Doc. 2020-18508 Filed 8-21-20; 8:45 am]

BILLING CODE 6717-01-P